OFFICE OF THE UNITED STATES TRADE REPRESENTATIVE

Membership of the Performance Review Board (PRB)

February 14, 2000.

AGENCY: Office of the United States Trade Representative.

SUMMARY: The following staff members are designated to serve on the Performance Review Board:

Performance Review Board (PRB)

Chair: Peter Allgeier.

Alternate Chair: Joseph Papovich.

Members: Rosa Whitaker, Emily Beizer, David Walters.

Executive Secretary: Lorraine Green.

EFFECTIVE DATE: January 24, 2000.

FOR FURTHER INFORMATION CONTACT: Lorraine Green, Director, Human Resources, (202) 395-7360.

John Hopkins,
Assistant United States Trade Representative for Administration.

[FR Doc. 00-3882 Filed 2-17-00; 8:45 am]

BILLING CODE 3190-01-M